DEPARTMENT OF ENERGY

Federal Energy Regulatory Commission

Combined Notice Of Filings

Take notice that the Commission has received the following Natural Gas Pipeline Rate and Refund Report filings:

Filings Instituting Proceedings

Docket Numbers: RP15-1296-000.

Applicants: Texas Eastern Transmission, LP.

Description: § 4(d) Rate Filing: Negotiated Rates—Chevron Oct2015 TEAM2014 Releases to be effective 10/1/2015.

Filed Date: 9/28/15.

Accession Number: 20150928-5108.

Comments Due: 5 p.m. ET 10/13/15.

Docket Numbers: RP15-1297-000.

Applicants: Midcontinent Express Pipeline LLC.

Description: § 4(d) Rate Filing: Devon Negotiated Rate to be effective 10/1/2015.

Filed Date: 9/28/15.

Accession Number: 20150928-5178.

Comments Due: 5 p.m. ET 10/13/15.

Docket Numbers: RP15-1298-000.

Applicants: Transcontinental Gas Pipe Line Company.

Description: § 4(d) Rate Filing: GT&C Section 46 1Line Service to be effective 10/30/2015.

Filed Date: 9/28/15.

Accession Number: 20150928-5247.

Comments Due: 5 p.m. ET 10/13/15.

Docket Numbers: RP15-1299-000.

Applicants: Texas Eastern Transmission, LP.

Description: Compliance filing OPEN Project 11-1-2015 In-Service Compliance Filing—CP14-68 to be effective 11/1/2015.

Filed Date: 9/28/15.

Accession Number: 20150928-5276.

Comments Due: 5 p.m. ET 10/13/15.

Docket Numbers: RP15-1300-000.

Applicants: Texas Eastern Transmission, LP.

Description: § 4(d) Rate Filing: OPEN Project 11-1-2015 In-Service Negotiated Rates Filing to be effective 11/1/2015.

Filed Date: 9/28/15.

Accession Number: 20150928-5281.

Comments Due: 5 p.m. ET 10/13/15.

Docket Numbers: RP15-1301-000.

Applicants: Venice Gathering System, L.L.C.

Description: § 4(d) Rate Filing: Negotiated Rate Agreement Tariff Filing to be effective 12/1/2012.

Filed Date: 9/28/15.

Accession Number: 20150928-5306.

Comments Due: 5 p.m. ET 10/13/15.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP14-247-005.

Applicants: Sea Robin Pipeline Company, LLC.

Description: Compliance filing RP14-247 Settlement Compliance Filing to be effective 8/1/2015.

Filed Date: 9/28/15.

Accession Number: 20150928-5307.

Comments Due: 5 p.m. ET 10/13/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 29, 2015.
Nathaniel J. Davis, Sr.,
Deputy Secretary.

[FR Doc. 2015-25913 Filed 10-9-15; 8:45 am]

BILLING CODE 6717-01-P